DEPARTMENT OF ENERGY

Federal Energy Regulatory Commission

18 CFR Part 284

[Docket No. RM14-2-000]

Coordination of the Scheduling Processes of Interstate Natural Gas Pipelines and Public Utilities

AGENCY: Federal Energy Regulatory Commission, DOE.

ACTION: Notice of proposed rulemaking; data request to Independent System Operators (ISOs) and Regional Transmission Organizations (RTOs).

SUMMARY: On December 12, 2014, pursuant to authority delegated to the Director, Office of Energy Policy and Innovation, a data request was issued to each ISO and RTO regarding the effect on the reliable and efficient operations of natural gas-fired generators of the current 9 a.m. CCT start to the Gas Day. The requests seek data from the ISOs/RTOs with respect to derates by natural gas generators during the morning ramp period.

DATES: Responses to the data request must be filed on or before January 12, 2015 in Docket No. RM14-2-000. Comments on the responses to the data request must be filed in the same docket within 10 days of the data request response, on or before January 22, 2015.

ADDRESSES: Responses and Comments, identified by docket number, may be filed in the following ways:

• Electronic Filing through http://www.ferc.gov. Documents created electronically using word processing software should be filed in native applications or print-to-PDF format and not in a scanned format.

• Mail/Hand Delivery: Those unable to file electronically may mail or hand-deliver comments to: Federal Energy Regulatory Commission, Secretary of the Commission, 888 First Street NE., Washington, DC 20426.

Instructions: For detailed instructions on submitting responses and comments, see the SUPPLEMENTARY INFORMATION section of this document.

FOR FURTHER INFORMATION CONTACT:

Anna Fernandez (Legal Information), Federal Energy Regulatory Commission, Office of the General Counsel, 888 First Street NE., Washington, DC 20426, 202-502-6682;

Caroline Daly Wozniak (Technical Information), Federal Energy Regulatory Commission, Office of Energy Policy and Innovation, 888 First Street NE., Washington, DC 20426, 202-502-8931.

SUPPLEMENTARY INFORMATION: The data requests can be obtained over the Internet from the Commission's eLibrary system (http://www.ferc.gov/docs-filing/elibrary.asp) under Docket No. RM14-2-000 or from the Commission's Public Reference Room during normal business hours (8:30 a.m. to 5:00 p.m. Eastern time) at 888 First Street NE., Room 2A, Washington DC 20426. The full text of the data requests are available on eLibrary in PDF and Microsoft Word format. To access these documents in eLibrary, type the docket number excluding the last three digits of this document in the docket number field.

All responses and comments will be placed in the Commission's public files in Docket No. RM14-2-000, and may be viewed, printed, or downloaded remotely from the eLibrary system or obtained from the Commission's Public Reference Room. The data responses and comments are not required to be served on other commenters or entities.

User assistance is available for eLibrary and the Commission's Web site during normal business hours from the Commission's Online Support at 202-502-6652 (toll free at 1-866-208-3676) or email at ferconlinesupport@ferc.gov, or the Public Reference Room at (202) 502-8371, TTY (202) 502-8659. Email the Public Reference Room at public.referenceroom@ferc.gov.

Dated: December 12, 2014.
Nathaniel J. Davis, Sr.,
Deputy Secretary.

[FR Doc. 2014-29701 Filed 12-18-14; 8:45 am]

BILLING CODE 6717-01-P